DEPARTMENT OF DEFENSE

Office of the Secretary

Administrative Suspension of the Advisory Committee on Industrial Security and Industrial Base Policy

AGENCY: Department of Defense.

ACTION: Notice of administrative suspension of Advisory Committee on Industrial Security and Industrial Base Policy.

SUMMARY: The Department of Defense is publishing this notice to announce it administratively suspended the Advisory Committee on Industrial Security and Industrial Base Policy on September 30, 2021.

FOR FURTHER INFORMATION CONTACT: Jim Freeman, Advisory Committee Management Officer for the Department of Defense, 703-692-5952.

SUPPLEMENTARY INFORMATION: The Advisory Committee is being administratively suspended under the provisions of the Federal Advisory Committee Act (FACA) (5 U.S.C., Appendix) and 41 CFR 102-3.55, and the Government in the Sunshine Act of 1976 (5 U.S.C. 552b), effective September 30, 2021.

Dated: September 29, 2021.
Aaron T. Siegel,
Alternate OSD Federal Register Liaison Officer, Department of Defense.

[FR Doc. 2021-21592 Filed 10-4-21; 8:45 am]

BILLING CODE 5001-06-P